DEPARTMENT OF THE INTERIOR

Office of Surface Mining Reclamation and Enforcement

30 CFR Parts 926 and 950

[SATS No. WY-049-FOR; Docket ID: OSM-2021-0003; SATS No. MT-042-FOR; Docket ID: OSM-2023-0007 S1D1S SS08011000 SX064A000 256S180110; S2D2S SS08011000 SX064A000 25XS501520]

Wyoming Regulatory Program and Montana Regulatory Program

AGENCY: Office of Surface Mining Reclamation and Enforcement, Interior.

ACTION: Final rule; delay of effective dates.

SUMMARY: In accordance with the Presidential Memorandum of January 20, 2025, titled “Regulatory Freeze Pending Review,” this action temporarily delays the effective date of the Wyoming and Montana Regulatory Program amendments.

DATES: The effective date of the rule published on January 13, 2025, at 90 FR 2614 (Wyoming Regulatory Program amendment) is delayed until March 21, 2025, and the rule published on January 15, 2025, at 90 FR 3673 (Montana Regulatory Program amendment) is delayed until March 21, 2025.

FOR FURTHER INFORMATION CONTACT: Jeffrey Fleischman, Field Office Director, Office of Surface Mining Reclamation and Enforcement, 100 East B Street, Casper, Wyoming 82606, Telephone: (307) 261-6550, Email: jfleischman@osmre.gov.

SUPPLEMENTARY INFORMATION:

Wyoming Regulatory Program

On January 13, 2025, OSMRE published a rule approving an amendment to the Wyoming Regulatory Program. The amendment proposed rules that would facilitate the disposal of inert decommission wind turbine blades and towers as backfill in end walls or the final pit voids in surface coal mining operations. The State also made changes to its regulations to provide consistency with the Wyoming Secretary of State's Rules on Rules, as well as correct grammatical errors.

Montana Regulatory Program

On January 15, 2025, OSMRE published a rule partially approving and partially not approving an amendment to the Montana Regulatory Program. The amendment concerned changes to the definition of material damage and changes to permit requirements related to hydrologic information.

On January 20, 2025, the White House issued a memorandum instructing Federal agencies to consider postponing the effective date of any regulations that have published in the Federal Register but not yet taken effect for 60 days from date of the memorandum “for the purpose of reviewing any questions of fact, law, and policy that the rules may arise.” After consideration, OSMRE is delaying the effective date of the Wyoming and Montana Regulatory Program amendments published on January 13, 2025 (90 FR 2614) and January 15, 2025 (90 FR 3673), respectively.

OSMRE is taking this action to extend the effective date without opportunity for public comment and with an immediate effective date based on the good cause exemptions in 5 U.S.C. 553(b)(4)(B). Seeking public comment on the effective date extension is impracticable, unnecessary, and contrary to the public interest. The temporary delay in effective date is necessary to give Department officials the opportunity for further review and consideration of new regulations, consistent with the memorandum of the President, dated January 20, 2025. Given the imminence of the original effective date of these two amendments, seeking prior public comment on this temporary delay is impractical, and contrary to the public interest in the orderly promulgation and implementation of regulations. For the foregoing reasons, the good cause exception in 5 U.S.C. 553(d)(3) also applies to OSMRE's decision to make this action to extend the effective date effective immediately.

David Berry,
Regional Director, Unified Regions 5, 7-11.

[FR Doc. 2025-02592 Filed 2-11-25; 8:45 am]

BILLING CODE 4310-05-P